DEPARTMENT OF JUSTICE

[OMB Number 1117—NEW]

Agency Information Collection Activities; Proposed eCollection eComments Requested; DEA Ambassador Program

AGENCY: Drug Enforcement Administration, Department of Justice.

ACTION: 60-Day notice.

SUMMARY: The Department of Justice (DOJ), Drug Enforcement Administration, will be submitting the following information collection request to the Office of Management and Budget (OMB) for review and approval in accordance with the Paperwork Reduction Act of 1995.

DATES: Comments are encouraged and will be accepted for 60 days until August 21, 2017.

FOR FURTHER INFORMATION CONTACT: If you have additional comments especially on the estimated public burden or associated response time, suggestions, or need a copy of the proposed information collection instrument with instructions or additional information, please contact Gary R. Owen, Chief, Office of Congressional & Public Affairs, Drug Enforcement Administration, 8701 Morrissette Drive, Springfield, VA 22152.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Proposed collection.

2. The Title of the Form/Collection: DEA Ambassador Program (DAP) Volunteer Application.

3. The agency form number, if any, and the applicable component of the Department sponsoring the collection: The agency form number is DEA-320. The applicable component within the Department of Justice is the Drug Enforcement Administration.

4. Affected public who will be asked or required to respond, as well as a brief abstract: Primary: Individuals. The Ambassador Program is designed to enhance the ability of the DEA Field Divisions to cultivate and leverage community relationships for the purpose of increasing illicit drug prevention and education strategies.

5. An estimate of the total number of respondents and the amount of time estimated for an average respondent to respond: It is estimated that 100 respondents will complete the application in approximately 10 minutes.

6. An estimate of the total public burden (in hours) associated with the collection: The estimated public burden associated with this collection is 16.6 hours. It is estimated that applicants will take 10 minutes to complete the DEA-320. The burden hours for collecting respondent data sum to 1000 hours (100 respondents × 10 minutes = 1000 hours. 1000/60 seconds = 16.6.

If additional information is required contact: Melody Braswell, Department Clearance Officer, United States Department of Justice, Justice Management Division, Policy and Planning Staff, Two Constitution Square, 145 N Street NE., 3E.405B, Washington, DC 20530.

Dated: June 16, 2017.
Melody Braswell,
Department Clearance Officer for PRA, U.S. Department of Justice.

[FR Doc. 2017-12910 Filed 6-20-17; 8:45 am]

BILLING CODE 4410-09-P